DEPARTMENT OF COMMERCE

International Trade Administration

[A-533-889]

Certain Quartz Surface Products From India: Notice of Amended Final Results of Antidumping Duty Administrative Review Pursuant to Settlement

AGENCY: Enforcement and Compliance, International Trade Administration, Department of Commerce.

SUMMARY: The U.S. Department of Commerce (Commerce) is issuing these amended final results pursuant to a settlement agreement with Antique Marbonite Private Limited, Arizona Tile, LLC, Cambria Company LLC, M S International, Inc., PNS Clearance LLC, Prism Johnson Limited, Shivam Enterprises, and other various entities with respect to the final results of the administrative review of certain quartz surface products (QSP) from India during the period of review (POR) December 13, 2019, through May 31, 2021.

DATES: Applicable October 23, 2024.

FOR FURTHER INFORMATION CONTACT: Patrick Barton, AD/CVD Operations, Office III, Enforcement and Compliance, International Trade Administration, U.S. Department of Commerce, 1401 Constitution Avenue NW, Washington, DC 20230; telephone: (202) 482-0012.

SUPPLEMENTARY INFORMATION:

Background

On January 9, 2023, Commerce published the final results of the administrative review of the antidumping duty order on QSP from India.¹ The POR is December 13, 2019, through May 31, 2021.

¹ See Certain Quartz Surface Products from India: Final Results of Antidumping Duty Administrative Review; 2019-2021, 88 FR 1188 (January 9, 2023) (Final Results).

The administrative review covers Antique Marbonite Private Limited, India/Shivam Enterprises/Prism Johnson Limited (collectively, Antique Group), Pokarna Engineered Stone Limited, ARO Granite Industries Limited, Baba Super Minerals Pvt. Ltd., Camrola Quartz Limited, Chariot International Pvt. Ltd., Cuarzo, Esprit Stones Pvt., Ltd., Glowstone Industries Private Limited, Keros Stone LLP, Mahi Granites Private Limited., Marudhar Rocks International Pvt. Ltd., Pacific Industries Limited, Pacific Quartz Surfaces LLP, Paradigm Stone India Private Limited, Pelican Quartz Stone, Quartzkraft LLP, Rocks Forever, Safayar Ceramics Private Ltd., Satya Exports, Southern Rocks and Minerals Private Limited, and Sunex Stones Private Ltd., producers and/or exporters of QSP from India to the United States. In the Final Results, Commerce assigned to Antique Group a weighted-average dumping margin of 323.12 percent for the POR and assigned to the non-selected respondents ² a weighted-average dumping margin of 3.19 percent for the POR.³

² Including, but not limited to: ARO Granite Industries Limited, Baba Super Minerals Pvt. Ltd., Camrola Quartz Limited, Chariot International Pvt. Ltd., Cuarzo, Esprit Stones Pvt., Ltd., Glowstone Industries Private Limited, Keros Stone LLP, Mahi Granites Private Limited., Marudhar Rocks International Pvt. Ltd., Pacific Industries Limited, Pacific Quartz Surfaces LLP, Paradigm Stone India Private Limited, Pelican Quartz Stone, Quartzkraft LLP, Rocks Forever, Safayar Ceramics Private Ltd., Satya Exports, Southern Rocks and Minerals Private Limited, and Sunex Stones Private Ltd.

³ See Final Results, 88 FR at 1189.

Following the publication of the Final Results, Antique Group, Arizona Title et al.,⁴ APB Trading, LLC et al.,⁵ and Cambria Company LLC (Cambria) filed lawsuits with the U.S. Court of International Trade (CIT) challenging certain aspects of Commerce's Final Results, including Commerce's decisions to reject Antique Group's second supplemental questionnaire response, deny Antique Group's requests for permission to refile the response, apply total adverse facts available to Antique Group, and assign the all-others rate calculated in the underlying investigation to the non-selected respondents in the administrative review.⁶

⁴ Arizona Tile, LLC, M S International, Inc., and PNS Clearance LLC (collectively, Arizona Tile).

⁵ APB Trading, LLC, Cosmos Granite (South East) LLC, Cosmos Granite (South West) LLC, Curava Corporation; DivyaShakti Limited, Divyashakti Granites Limited, Marudhar Rocks International Pvt. Ltd., Overseas Manufacturing and Supply Inc., Quartzkraft LLP, and Stratus Surfaces LLC.

⁶ See Cambria Company LLC v. United States, Slip Op. 24-62 (CIT May 28, 2024).

On October 16, 2024, the United States, Antique Group, Arizona Tile et al., APB Trading, LLC et al., Cambria, and Federation of Indian Quartz Surface Industry entered into an agreement to settle this dispute. Pursuant to the terms of settlement and the stipulation for entry of judgment, the amended final weighted-average dumping margin for Antique Group is 3.58 percent. Additionally, Commerce will set importer-specific dumping margins for the remaining unliquidated entries of certain non-selected companies at 1.02 percent.⁷ The CIT issued its order of judgment by stipulation on October 16, 2024.⁸

⁷ See “Assessment Rates” section, infra.

⁸ See Cambria Company LLC v. United States, Consol. Court No. 23-00007, Doc. No. 115 (Oct. 16, 2024).

Assessment Rates

Consistent with the settlement agreement and October 16, 2024, order of judgment by stipulation, Commerce will instruct U.S. Customs and Border Protection (CBP) to liquidate all unliquidated entries of QSP from India produced and/or exported by Antique Group, and entered, or withdrawn from warehouse, for consumption in the United States during the POR equal to Antique Group's weighted-average dumping margin of 3.58 percent. Additionally, Commerce will instruct CBP to assess importer-specific dumping margins for certain non-selected companies at 1.02 percent as follows: (i) for subject merchandise imported by Arizona Tile, LLC and produced and/or exported by ARO Granite Industries Limited, Esprit Stones Pvt., Ltd., Marudhar Rocks International Pvt. Ltd., Pacific Industries Limited, Pacific Quartz Surfaces LLP, Paradigm Stone India Private Limited, or Quartzkraft LLP; (ii) for subject merchandise imported by M S International, Inc. and produced and/or exported by Baba Super Minerals Pvt. Ltd., Camrola Quartz Limited, Chariot International Pvt. Ltd., Cuarzo, Esprit Stones Pvt., Ltd., Glowstone Industries Private Limited, Keros Stone LLP, Mahi Granites Private Limited., Pacific Industries Limited, Pacific Quartz Surfaces LLP, Paradigm Stone India Private Limited, Pelican Quartz Stone, Rocks Forever, Safayar Ceramics Private Ltd., Satya Exports, or Southern Rocks and Minerals Private Limited; and (iii) for subject merchandise imported by PNS Clearance LLC and produced and/or exported by Baba Super Minerals Pvt. Ltd., Camrola Quartz Limited, Chariot International Pvt. Ltd., Cuarzo, Esprit Stones Pvt., Ltd., Glowstone Industries Private Limited, Keros Stone LLP, Mahi Granites Private Limited., Marudhar Rocks International Pvt. Ltd., Pacific Industries Limited, Pacific Quartz Surfaces LLP, Paradigm Stone India Private Limited, Pelican Quartz Stone, Rocks Forever, Safayar Ceramics Private Ltd., Satya Exports, Southern Rocks and Minerals Private Limited, or Sunex Stones Private Ltd.

Pursuant to section 751(a)(2)(C) of the Tariff Act of 1930, as amended (the Act), and 19 CFR 351.212(b)(1), Commerce has determined, and CBP shall assess, antidumping duties on all appropriate entries of subject merchandise in accordance with these revised final results of review.⁹

⁹ See Antidumping and Countervailing Duty Proceedings: Assessment of Antidumping Duties, 68 FR 23954 (May 6, 2003).

Notification to Interested Parties

We are issuing this determination and publishing these amended final results and notice in accordance with section 516a(e) of the Act.

Dated: October 17, 2024.
Ryan Majerus,
Deputy Assistant Secretary for Policy and Negotiations, performing the non-exclusive functions and duties of the Assistant Secretary for Enforcement and Compliance.

[FR Doc. 2024-24578 Filed 10-22-24; 8:45 am]

BILLING CODE 3510-DS-P